FEDERAL RETIREMENT THRIFT INVESTMENT BOARD

Sunshine Act Meeting Notice

Time and Date: 9:30 a.m. (Eastern Time). September 24, 2009.

Place: 4th Floor Conference Room, 1250 H Street, NW., Washington, DC 20005.

Status: Parts will be open to the public and parts closed to the public.

Matters To Be Considered

Parts Open to the Public

1. Approval of the minutes of the August 17, 2009 Board member meeting.

2. Thrift Savings Plan activity report by the Executive Director.

a. Monthly Participant Activity Report.

b. Monthly Investment Performance Report.

c. Legislative Report.

3. Annual Budget Report.

a. Fiscal Year 2009 Results.

b. Fiscal Year 2010 Budget.

c. Fiscal Year 2011 Estimate.

Parts Closed to the Public

4. Proprietary Information.

Contact Person for More Information: Thomas J. Trabucco, Director, Office of External Affairs, (202) 942-1640.

Dated: September 10, 2009.
Thomas K. Emswiler,
Secretary, Federal Retirement Thrift Investment Board.

[FR Doc. E9-22191 Filed 9-10-09; 4:15 pm]

BILLING CODE 6760-01-P